FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than November 14, 2024.

A. Federal Reserve Bank of Chicago (Colette A. Fried, Assistant Vice President) 230 South LaSalle Street, Chicago, Illinois 60690-1414. Comments can also be sent electronically to Comments.applications@chi.frb.org:

1. The Andrew A. Black Living Trust, dated June 21, 2019, Andrew A. Black and Lesa A. Black, as co-trustees, all of Princeville, Illinois; Kay I. German Revocable Trust, Kay I. German, both of Chillicothe, Illinois, and Andrew A. Black, Princeville, Illinois, as co-trustees; William M. German Revocable Trust, dated November 7, 1994, William M. German, both of Chillicothe, Illinois, and Andrew A. Black, Princeville, Illinois, as co-trustees; Charles L. German and Kathryn J. German, both of Marco Island, Florida; Kathleen A. Messersmith Declaration of Trust, dated March 18, 2005, Kathleen A. Messersmith, as trustee, both of Princeville, Illinois; Julie K. Wilson, Sugar Grove, Illinois; and Beth A. Kurtz, Chillicothe, Illinois; each a member of the German Family Control Group, a group acting in concert, to acquire voting shares of Western Illinois Bancshares, Inc., Monmouth, Illinois, and thereby indirectly acquire voting shares of Midwest Bank, Monmouth, Illinois, and Princeville State Bank, Princeville, Illinois.

B. Federal Reserve Bank of St. Louis (Holly A. Rieser, Senior Manager) P.O. Box 442, St. Louis, Missouri 63166-2034. Comments can also be sent electronically to Comments.applications@stls.frb.org:

1. Robert Gary Maxwell and Brandon Maxwell, both of Milan, Tennessee; to establish the Maxwell Family Control Group, to retain voting shares of Hometown Bancorp, Inc., and thereby indirectly retain voting shares of The Bank of Milan, both of Milan, Tennessee.

C. Federal Reserve Bank of Kansas City (Jeffrey Imgarten, Assistant Vice President) 1 Memorial Drive, Kansas City, Missouri, 64198-0001. Comments can also be sent electronically to KCApplicationComments@kc.frb.org:

1. The Matthew Michaelis Trust B, Amy Madsen and Matthew Michaelis, as co-trustees, all of Wichita, Kansas; to acquire voting shares of Emprise Financial Corporation, and thereby indirectly acquire voting shares of Emprise Bank, both of Wichita, Kansas, and to join the Michaelis Family Group, a group acting in concert. Amy Madsen and Matthew Michaelis have previously been approved as members of the Michaelis Family Group.

Board of Governors of the Federal Reserve System.
Michele Taylor Fennell,
Associate Secretary of the Board.

[FR Doc. 2024-25197 Filed 10-29-24; 8:45 am]

BILLING CODE P